NUCLEAR WASTE TECHNICAL REVIEW BOARD

Board Meeting

The U.S. Nuclear Waste Technical Review Board has rescheduled its hybrid (in-person/virtual) public meeting from August 27, 2025, to November 13, 2025.

Board meeting: November 13, 2025—The U.S. Nuclear Waste Technical Review Board has rescheduled its hybrid (in-person/virtual) meeting in Arlington, Virginia, from August 27, 2025, to Thursday, November 13, 2025, to receive program updates from Department of Energy's (DOE) Office of Spent Fuel and High-Level Waste Disposition, within the Office of Nuclear Energy (DOE-NE).

Pursuant to its authority under section 5051 of Public Law 100-203, Nuclear Waste Policy Amendments Act (NWPAA) of 1987, the U.S. Nuclear Waste Technical Review Board will hold a hybrid (in-person/virtual) meeting in Arlington, Virginia, on Thursday, November 13, 2025, to review information on the U.S. Department of Energy's (DOE) activities to manage spent nuclear fuel and high-level radioactive waste and to receive program updates from DOE's Office of Nuclear Energy (DOE-NE). This meeting was originally scheduled for August 27, 2025, and has been rescheduled to the new date. Senior leaders from DOE-NE will provide an overview of the activities and new priorities of the DOE Office of Spent Fuel and High-Level Waste Disposition (NE-8). DOE staff will also provide updates on the activities of the Office of Disposal Research & Development (NE-81), the Office of Storage & Transportation (NE-82), and the Office of Consent-Based Siting (NE-83).

The hybrid (in-person/virtual) meeting will be held at the Westin Crystal City Reagan National Airport Hotel at 1800 Richmond Highway in Arlington, Virginia. The hotel telephone number is 703-486-1111. The hotel website is https://www.marriott.com/en-us/hotels/waswi-the-westin-crystal-city-reagan-national-airport/. On November 13, 2025, the meeting will begin at 8:00 a.m. Eastern Standard Time (EST) and is scheduled to adjourn at approximately 4:00 p.m. EST. DOE speakers will be senior representatives of the Office of Spent Fuel and High-Level Waste Disposition. A detailed meeting agenda will be available on the Board's website at www.nwtrb.gov approximately one week before the meeting.

The meeting will be open to the public, and there will be an opportunity for public comment at the end of the meeting. Those attending the meeting in person and wishing to provide oral comments are encouraged to sign-in using the Public Comment Register at the check-in table near the entrance to the meeting room. Oral commenters will be taken in the order in which they signed in. Public comments may also be submitted during the meeting via the online meeting viewing platform, using the “Comment for the Record” form. Comments submitted online during the day of the meeting may be read into the record by Board staff during the public comment period, if time allows. Depending on the number of speakers and online comments, a time limit on individual remarks may be set. Written comments of any length may be submitted to the Board staff by mail or electronic mail. Comments received in writing will be included in the meeting record, which will be posted on the Board's website. An archived recording of the meeting will be available on the Board's website following the meeting, and a transcript of the meeting will be available on the website by January 16, 2025.

The Board is an independent federal agency in the Executive Branch. It was established in the Nuclear Waste Policy Amendments Act of 1987 (Pub. L. 100-203) to perform ongoing evaluation of the technical and scientific validity of U.S. Department of Energy activities related to developing and implementing a program for the management and disposal of spent nuclear fuel and high-level radioactive waste, in accordance with the terms of the Nuclear Waste Policy Act of 1982, as amended. Board members serve part-time and are appointed by the President from a list of nominees submitted by the National Academy of Sciences. The Board reports its findings, conclusions, and recommendations to Congress and the Secretary of Energy. Board reports, correspondence, congressional testimony, meeting transcripts, and related materials are posted on the Board's website.

For information regarding the meeting, contact Mr. Christopher Burk at burk@nwtrb.gov, or by phone at 703-235-4486, or Dr. Hundal “Andy” Jung at jung@nwtrb.gov. For information on meeting logistics, contact Ms. Davonya Barnes at barnes@nwtrb.gov, or by phone at 703-235-9141. All three may be reached by mail at 2300 Clarendon Boulevard, Suite 1300, Arlington, VA 22201-3367; or by fax at 703-235-4495.

Dated: September 10, 2025.
Daniel Ogg,
Executive Director, U.S. Nuclear Waste Technical Review Board.

[FR Doc. 2025-17673 Filed 9-11-25; 8:45 am]

BILLING CODE 6820-AM-P